DEPARTMENT OF TRANSPORTATION

Federal Aviation Administration

14 CFR Part 39

[Docket No. FAA-2017-0513; Product Identifier 2016-NM-152-AD; Amendment 39-19125; AD 2017-25-11]

RIN 2120-AA64

Airworthiness Directives; Dassault Aviation Airplanes

AGENCY: Federal Aviation Administration (FAA), Department of Transportation (DOT).

ACTION: Final rule.

SUMMARY: We are adopting a new airworthiness directive (AD) for all Dassault Aviation Model FALCON 2000EX airplanes. This AD was prompted by a quality review of delivered airplanes, which identified a manufacturing deficiency of some engine air inlet anti-ice “piccolo” tubes. This AD requires inspecting each anti-ice “piccolo” tube assembly of certain engine air inlets for discrepancies, and doing corrective actions if necessary. We are issuing this AD to address the unsafe condition on these products.

DATES: This AD is effective January 22, 2018.

The Director of the Federal Register approved the incorporation by reference of a certain publication listed in this AD as of January 22, 2018.

ADDRESSES: For service information identified in this final rule, contact Dassault Falcon Jet, P.O. Box 2000, South Hackensack, NJ 07606; telephone 201-440-6700; internet http://www.dassaultfalcon.com. You may view this referenced service information at the FAA, Transport Standards Branch, 1601 Lind Avenue SW, Renton, WA. For information on the availability of this material at the FAA, call 425-227-1221. It is also available on the internet at http://www.regulations.gov by searching for and locating Docket No. FAA-2017-0513.

Examining the AD Docket

You may examine the AD docket on the internet at http://www.regulations.gov by searching for and locating Docket No. FAA-2017-0513; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 1601 Lind Avenue SW, Renton, WA 98057-3356; telephone 425-227-1137; fax 425-227-1149.

SUPPLEMENTARY INFORMATION:

Discussion

We issued a notice of proposed rulemaking (NPRM) to amend 14 CFR part 39 by adding an AD that would apply to all Dassault Aviation Model FALCON 2000EX airplanes. The NPRM published in the Federal Register on May 31, 2017 (82 FR 24900) (“the NPRM”). The NPRM was prompted by a quality review of delivered airplanes, which identified a manufacturing deficiency of some engine air inlet anti-ice “piccolo” tubes. The NPRM proposed to require inspecting each anti-ice “piccolo” tube assembly of certain engine air inlets for discrepancies, and doing corrective actions if necessary. We are issuing this AD to detect and correct discrepancies of each anti-ice “piccolo” tube assembly of certain engine air inlets; this condition could result in reduced performance of the engine anti-ice protection system, leading to ice accretion and ingestion into the engines, and possibly resulting in dual engine power loss and consequent reduced controllability of the airplane.

The European Aviation Safety Agency (EASA), which is the Technical Agent for the Member States of the European Union, has issued EASA Airworthiness Directive 2016-0168, dated August 17, 2016 (referred to after this as the Mandatory Continuing Airworthiness Information, or “the MCAI”), to correct an unsafe condition for all Dassault Aviation Model FALCON 2000EX airplanes. The MCAI states:

A quality review of recently delivered aeroplanes identified a manufacturing deficiency of some engine air inlet anti-ice “piccolo” tubes.

This condition, if not detected and corrected, could lead to reduced performance of the engine anti-ice protection system, with consequent ice accretion and ingestion, possibly resulting in dual engine power loss and reduced control of an aeroplane.

The subsequent investigation demonstrated that, for engines equipped with an air inlet affected by the manufacturing deficiency, operating an engine at or above the minimum N1 value applicable for combined wing and engine anti-ice operations provides efficient engine anti-ice performance during stand-alone engine anti-ice operation.

To address this potential unsafe condition, EASA issued EASA AD 2015-0101-E (later revised) to require amendment of the applicable Aeroplane Flight Manual (AFM) for aeroplanes having engine air inlets Part Number (P/N) 06ND71600-1 not marked NORDAM Rework Kit (or “NRK”) on the associated data plate.

Since that [EASA] AD was issued, Dassault Aviation published Service Bulletin (SB) F2000EX-384 (later revised), providing instructions for a one-time inspection and applicable corrective actions, to recover the full operational capability of the aeroplanes equipped with affected parts.

For the reasons described above, this [EASA] AD supersedes EASA AD 2015-0102R1, retaining its requirements, [and] additionally requires a one-time inspection of each affected anti-ice “piccolo” tube assembly and, depending on findings, accomplishment of the applicable corrective actions. This [EASA] AD also prohibits installation of an affected part on an aeroplane.

The required actions include a detailed inspection and borescope inspection for discrepancies, which include determining if the opening diameter of the anti-ice tube assembly is incorrect or the perforation holes are blocked by residue. The corrective actions include repair or rework, if necessary. You may examine the MCAI in the AD docket on the internet at http://www.regulations.gov by searching for and locating Docket No. FAA-2017-0513.

Comments

We gave the public the opportunity to participate in developing this AD. The following presents the comment received on the NPRM and the FAA's response.

Request To Provide Credit for Accomplishing Previous Actions

NetJets Aviation asked that we add Dassault Falcon 2000EX Service Bulletin F2000EX-384, dated January 27, 2016, as a method of compliance for accomplishing the actions specified in paragraph (g) of the proposed AD. NetJets Aviation stated that those actions are done as specified in Dassault Falcon 2000EX Service Bulletin F2000EX-384, Revision 1, dated March 1, 2016, which specifies that it does not apply to airplanes on which the actions in Dassault Falcon 2000EX Service Bulletin F2000EX-384, dated January 27, 2016, have been done.

We agree with the commenter's request for the reason provided. We have added paragraph (i) to this AD (and redesignated subsequent paragraphs accordingly) to provide credit for the actions performed before the effective date of this AD using Dassault Falcon 2000EX Service Bulletin F2000EX-384, dated January 27, 2016.

Conclusion

We reviewed the relevant data, considered the comment received, and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Dassault Falcon 2000EX Service Bulletin F2000EX-384, Revision 1, dated March 1, 2016. This service information describes procedures for inspecting each anti-ice “piccolo” tube assembly of each engine air inlet for discrepancies, and corrective actions. This service information is reasonably available because the interested parties have access to it through their normal course of business or by the means identified in the ADDRESSES section.

Costs of Compliance

We estimate that this AD affects 181 airplanes of U.S. registry.

We estimate the following costs to comply with this AD:

Estimated Costs
Action | Labor cost | Parts cost | Cost per product | Cost on U.S. operators
Inspection | 5 work-hours × $85 per hour = $425 | $0 | $425 | $76,925

We estimate the following costs to do any necessary rework required based on the results of the inspection. We have no way of determining the number of aircraft that might need these corrective actions:

On-Condition Costs
Action | Labor cost | Parts cost | Cost per product
Rework anti-ice tube assembly | 2 work-hours × $85 per hour = $170 | $1,711 | $1,881

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-11 Dassault Aviation: Amendment 39-19125; Docket No. FAA-2017-0513; Product Identifier 2016-NM-152-AD.

(a) Effective Date

This AD is effective January 22, 2018.

(b) Affected ADs

This AD affects AD 2015-13-08, Amendment 39-18195 (80 FR 37150, June 30, 2015) (“AD 2015-13-08”).

(c) Applicability

This AD applies to all Dassault Aviation Model FALCON 2000EX airplanes, certificated in any category.

(d) Subject

Air Transport Association (ATA) of America Code 30, Ice and Rain Protection.

(e) Reason

This AD was prompted by a quality review of certain delivered airplanes, which identified a manufacturing deficiency of certain engine air inlet anti-ice “piccolo” tubes. We are issuing this AD to detect and correct discrepancies of each anti-ice “piccolo” tube assembly of certain engine air inlets; this condition could result in reduced performance of the engine anti-ice protection system, leading to ice accretion and ingestion into the engines, and possibly resulting in dual engine power loss and consequent reduced controllability of the airplane.

(f) Compliance

Comply with this AD within the compliance times specified, unless already done.

(g) Inspection

For airplanes other than those on which an engine air inlet having part number (P/N) 06ND71600-1, with a marking “NTR-RKFAL97” “NTR-RKFAL98,” “F2000EX-384,” or “F2000EX-384-R1” on the air inlet data plate has been incorporated on both engines: Within 1,300 flight hours or 26 months after the effective date of this AD, whichever occurs first; inspect each anti-ice “piccolo” tube assembly of each engine air inlet for discrepancies (i.e., an incorrect opening diameter of the anti-ice tube assembly or perforation holes blocked by residue), and do all applicable corrective actions, in accordance with the Accomplishment Instructions of Dassault Falcon 2000EX Service Bulletin F2000EX-384, Revision 1, dated March 1, 2016; except as required by paragraph (h) of this AD. Do all applicable corrective actions before further flight.

(h) Service Information Exception

Where Dassault Falcon 2000EX Service Bulletin F2000EX-384, Revision 1, dated March 1, 2016, specifies to contact Dassault for appropriate action: Before further flight, accomplish corrective actions in accordance with the procedures specified in paragraph (l)(2) of this AD.

(i) Credit for Previous Actions

This paragraph provides credit for actions required by paragraph (g) of this AD, if those actions were performed before the effective date of this AD using Dassault Falcon 2000EX Service Bulletin F2000EX-384, dated January 27, 2016.

(j) Terminating Action

Accomplishment of the actions required by paragraph (g) of this AD terminates all requirements of AD 2015-13-08 for that airplane.

(k) Parts Installation Limitation

As of the effective date of this AD, installation of an engine air inlet having part number (P/N) 06ND71600-1 on any airplane is allowed, provided the engine air inlet data plate shows the marking “NTR-RKFAL97,” “NTR-RKFAL98,” “F2000EX-384,” or “F2000EX-384-R1.”

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the certification office, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(m) Related Information

(1) Refer to Mandatory Continuing Airworthiness Information (MCAI) EASA AD 2016-0168, dated August 17, 2016, for related information. This MCAI may be found in the AD docket on the internet at http://www.regulations.gov by searching for and locating Docket No. FAA-2017-0513.

(2) For more information about this AD, contact Tom Rodriguez, Aerospace Engineer, International Section, Transport Standards Branch, FAA, 1601 Lind Avenue SW, Renton, WA 98057-3356; telephone 425-227-1137; fax 425-227-1149.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Falcon 2000EX Service Bulletin F2000EX-384, Revision 1, dated March 1, 2016.

(ii) Reserved.

(3) For service information identified in this AD, contact Dassault Falcon Jet, P.O. Box 2000, South Hackensack, NJ 07606; telephone 201-440-6700; internet http://www.dassaultfalcon.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 4, 2017.
Dionne Palermo,
Acting Director, System Oversight Division, Aircraft Certification Service.

[FR Doc. 2017-26841 Filed 12-15-17; 8:45 am]

BILLING CODE 4910-13-P